DEPARTMENT OF TRANSPORTATION

Federal Aviation Administration

14 CFR Part 39

[Docket No. FAA-2010-0301; Directorate Identifier 2009-NE-22-AD]

RIN 2120-AA64

Airworthiness Directives; Rolls-Royce Deutschland Ltd & Co KG (RRD) Models Tay 620-15, Tay 650-15, and Tay 651-54 Turbofan Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as: Following a review of operational data of the Tay 651-54 engine, it has been found that the actual stress levels in the Tay 651-54 engine High Pressure Compressor (HPC) stages 1, 3, 6, 7 and 12 discs were higher than those originally assumed and therefore the approved lives needed to be reduced.

We are proposing this AD to prevent HPC stages 1, 3, 6, 7, and 12 discs from exceeding the approved reduced life limits, which could result in an uncontained failure of a disc and damage to the airplane.

DATES: We must receive comments on this proposed AD by April 26, 2010.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Rolls-Royce Deutschland Ltd & Co KG; Eschenweg 11, D-15827 Blankenfelde-Mahlow, Germany; telephone +49 (0) 33 7086 1768; fax +49 (0) 33 7086 3356 for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: Tara Chaidez, Aerospace Engineer, Engine Certification Office, FAA, Engine and Propeller Directorate, 12 New England Executive Park, Burlington, MA 01803; e-mail: tara.chaidez@faa.gov; telephone (781) 238-7773; fax (781) 238-7199.

SUPPLEMENTARY INFORMATION:

Comments Invited

We invite you to send any written relevant data, views, or arguments about this proposed AD. Send your comments to an address listed under the ADDRESSES section. Include “Docket No. FAA-2010-0301; Directorate Identifier 2009-NE-22-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2009-0092, dated April 17, 2009 (referred to after this as “the MCAI”), to correct an unsafe condition for the specified products. The MCAI states:

Following a review of operational data of the Tay 651-54 engine, it has been found that the actual stress levels in the Tay 651-54 engine High Pressure Compressor (HPC) stages 1, 3, 6, 7 and 12 discs were higher than those originally assumed and therefore the approved lives needed to be reduced.

As Tay 651-54 service run HPC discs may be installed on Tay 620-15 and Tay 650-15 engine models, it is necessary to reduce the maximum approved lives of the affected HPC disc serial numbers installed on Tay 620-15 and Tay 650-15 engines as well.

The approved lives of the affected HPC stages 1, 3, 6, 7 and 12 discs specified in this Airworthiness Directive supersede the approved lives given in the Time Limits Manuals, Chapter 05-10-01.

Exceeding of the approved life limits could potentially result in non-contained disc failure.

You may obtain further information by examining the MCAI in the AD docket.

Relevant Service Information

Rolls-Royce Deutschland Ltd & Co KG has issued Alert Service Bulletin TAY-72-A1740, dated February 11, 2009. The actions described in this service information are intended to correct the unsafe condition identified in the MCAI.

FAA's Determination and Requirements of This Proposed AD

This product has been approved by the aviation authority of Germany, and is approved for operation in the United States. Pursuant to our bilateral agreement with Germany, they have notified us of the unsafe condition described in the MCAI and service information referenced above. We are issuing this AD because we evaluated all information provided by EASA, and determined the unsafe condition exists and is likely to exist or develop on other products of the same type design.

Costs of Compliance

Based on the service information, we estimate that this proposed AD would affect about 10 products of U.S. registry. We also estimate that it would take about 1 work-hour per product to comply with this proposed AD. The average labor rate is $85 per work-hour. Required parts would cost about $100,000 per product. Based on these figures, we estimate the cost of the proposed AD on U.S. operators to be $1,000,850.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce Deutschland Ltd & Co KG (Formerly Rolls-Royce plc): Docket No. FAA-2010-0301; Directorate Identifier 2009-NE-22-AD.

Comments Due Date

(a) We must receive comments by April 26, 2010.

Affected Airworthiness Directives (ADs)

(b) None.

Applicability

(c) This AD applies to Rolls-Royce Deutschland Ltd & Co KG (RRD) models Tay 620-15, Tay 650-15, and Tay 651-54 turbofan engines. These engines are installed on, but not limited to, Fokker F28 Mark 0070 and Mark 0100 airplanes and Boeing 727 series airplanes.

Reason

(d) Following a review of operational data of the Tay 651-54 engine, it has been found that the actual stress levels in the Tay 651-54 engine High Pressure Compressor (HPC) stages 1, 3, 6, 7 and 12 discs were higher than those originally assumed and therefore the approved lives needed to be reduced. We are issuing this AD to prevent HPC stages 1, 3, 6, 7, and 12 discs from exceeding the approved reduced life limits, which could result in an uncontained failure of a disc and damage to the airplane.

Actions and Compliance

(e) Unless already done, within 30 days after the effective date of this AD, amend the approved Airworthiness Limitation Section to incorporate the new, reduced life limits as follows:

For Tay 651-54 Engines

(1) The maximum approved lives (MAL) of the High Pressure Compressor (HPC) rotor discs are reduced to the MALs specified in the following Table 1 of this AD:

Table 1—Tay 651-54 Engine Reduced Disc MAL by Part Number
For | Part Number | the MAL is
(i) HPC Stage 1 Disc | JR18049 | 18,800 cycles.
(ii) HPC Stage 3 Disc | JR18743 | 18,100 cycles.
(iii) HPC Stage 6 Disc | JR18748 | 19,300 cycles.
(iv) HPC Stage 7 Disc | JR17365 | 17,300 cycles.
(v) HPC Stage 12 Disc | JR31928 | 18,900 cycles.

For Tay 620-15 and Tay 650-15 Engines

(2) The MAL of certain High Pressure Compressor (HPC) rotor discs are reduced. The affected disc serial numbers and the reduced MAL are defined in Rolls-Royce Deutschland Non-Modification Service Bulletin TAY-72-A1740, dated February 11, 2009.

(3) Thereafter, except as provided in paragraph (f) of this AD, no alternative replacement times may be approved for these parts.

Other FAA AD Provisions

(f) Alternative Methods of Compliance (AMOCs): The Manager, Engine Certification Office, FAA, has the authority to approve AMOCs for this AD, if requested using the procedures found in 14 CFR 39.19.

Related Information

(g) Refer to MCAI EASA Airworthiness Directive 2009-0092, dated April 17, 2009, and Rolls-Royce Deutschland Ltd & Co KG Alert Service Bulletin TAY-72-A1740, dated February 11, 2009, for related information. Contact Rolls-Royce Deutschland Ltd & Co KG; Eschenweg 11, D-15827 Blankenfelde-Mahlow, Germany; telephone +49 (0) 33 7086 1768; fax +49 (0) 33 7086 3356, for a copy of this service information.

(h) Contact Tara Chaidez, Aerospace Engineer, Engine Certification Office, FAA, Engine and Propeller Directorate, 12 New England Executive Park, Burlington, MA 01803; e-mail: tara.chaidez@faa.gov; telephone (781) 238-7773; fax (781) 238-7199, for more information about this AD.

Issued in Burlington, Massachusetts, on March 18, 2010.
Francis A. Favara,
Manager, Engine and Propeller Directorate, Aircraft Certification Service.

[FR Doc. 2010-6584 Filed 3-24-10; 8:45 am]

BILLING CODE 4910-13-P